DEPARTMENT OF HEALTH AND HUMAN SERVICES

[Document Identifier OS-0990-0475]

Agency Information Collection Request; 30-Day Public Comment Request

AGENCY: Office of the Secretary, HHS.

ACTION: Notice.

SUMMARY: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the ICR must be received on or before June 21, 2022.

ADDRESSES: Written comments and recommendations for the proposed information collection should be sent within 30 days of publication of this notice. To be assured consideration, comments and recommendations must be submitted www.reginfo.gov/public/do/PRAMain. Find this particular information collection by selecting “Currently under 30-day Review—Open for Public Comments” or by using the search function.

FOR FURTHER INFORMATION CONTACT: Sherrette Funn, Sherrette.Funn@hhs.gov or (202) 795-7714. When submitting comments or requesting information, please include the document identifier 0990-0475-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: ASPA COVID-19 Public Education Campaign Evaluation Surveys.

Type of Collection: Revision.

OMB No. 0990-0475—Office of the Assistant Secretary for Public Affairs (ASPA) within Office of the Secretary.

Abstract: The Office of the Assistant Secretary for Public Affairs (ASPA), U.S. Department of Health and Human Services (HHS) is requesting a revision on a currently approved collection including two components: 1. COVID-19 Attitudes and Beliefs Survey (CABS), and 2. Monthly Outcome Survey (MOS). This revision supports continuation of the approved data collection by adding burden to support the program through the expiration of the package 0990-0475 on February 29, 2024.

Throughout execution of ASPA's COIVD-19 Public Education Campaign, this information will primarily be used to determine whether the campaign is having the intended impact on target audiences' knowledge, attitudes, and beliefs as they relate to COVID-19, COVID-19 vaccination, boosting, and uptake of vaccination among eligible children, as well as adherence to preventative behaviors. It will also keep key stakeholders informed of the Campaign's progress. Ultimately, the data will inform a thorough evaluation of the efficacy of the campaign and its impact on vaccine and booster uptake.

COVID-19 Attitudes and Beliefs Survey (CABS)

The CABS is a longitudinal survey that fields tri-annually to 4,000 U.S. adults through the duration of 0990-0475 via NORC at the University of Chicago's AmeriSpeak Panel. The survey is fielded online, and each fielding period lasts between 3 and 6 weeks. Those that respond to each wave of the survey are recontacted in each subsequent wave, facilitating a comparison of COVID-19 behavior change over time for a representative sample and evaluation of U.S. adults. Panel members selected to participate in the study received one pre-invitation postcard in the mail, one email invitation, and three email reminders to complete the survey in each wave. There are two CABS supplements to increase robustness of the evaluation, one to obtain enough parent respondents of eligible-to-vaccinate children and another to obtain respondents' media consumption habits.

Monthly Outcome Survey (MOS)

The MOS is a cross-sectional survey fielded monthly to 5,000 U.S. adults over two years (24 waves) via the Ipsos KnowledgePanel 5K Omnibus Survey. The is fielded online, and each fielding period lasts between 7 and 10 days.

Estimated Annualized Burden Table
Type of respondent | Form name | Number of respondents | Number responses per respondent | Average burden per response (in hours) | Total burden hours
MOS | MOS Survey Questionnaire | 120,000 | 1 | 15/60 | 30,000
CABS | CABS Survey Questionnaire | 3,800 | 6 | 35/60 | 13,300
| Parent Supplement | 2,565 | 1 | 35/60 | 1,497
| Media Diet Supplement | 4,500 | 1 | 7.5/60 | 563
Total |  |  |  |  | 45,360

Sherrette A. Funn,
Paperwork Reduction Act Reports Clearance Officer, Office of the Secretary.

[FR Doc. 2022-10912 Filed 5-19-22; 8:45 am]

BILLING CODE 4150-25-P